DEPARTMENT OF COMMERCE

National Oceanic and Atmospheric Administration

[RTID 0648-XB280]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will convene Monday, August 23 at 8:15 a.m. to 5:30 p.m., CDT. Tuesday, August 24, 2021 through Wednesday, August 25, 2021 at 8:30 a.m. to 5:30 p.m., CDT and on Thursday August 26, 2021 at 8:30 a.m. to 5 p.m. CDT.

ADDRESSES:

Meeting address: The meeting will take place at the Hilton Palacio del Rio, 200 South Alamo Street, San Antonio, TX 78205.

Please note, meeting attendees will be expected to follow any current COVID-19 safety protocols as determined by the Council, hotel and the City of San Antonio. Such precautions may include masks, room capacity restrictions, and/or social distancing. If you prefer to “listen in”, you may access the log-on information by visiting our website at www.gulfcouncil.org.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, August 23, 2021; 8:15 a.m.-5:30 p.m.

The meeting will begin open to the public with Full Council Session to Induct New Council Members and Re-Appoint Council members. Committee sessions will begin at 8:30 a.m. with the Administrative/Budget Committee will discuss modifications to the Statement of Organization Practices and Procedures (SOPPs) for Scientific and Statistical Committees (SSC) Memberships and SSC's Best Voting Practices and Procedures. The Committee will receive a presentation on the 2019-20 Audit Results and discuss SSC Stipends.

The Shrimp Committee will receive an update on Effort Data Collection for 2021, review Draft Framework Action: Modifications to the Gulf of Mexico Federal Shrimp Fishery Effort Monitoring and Reporting, and Section 7 Consultation on the Shrimp Industry and Protected Species.

The Mackerel Committee will convene after lunch. They will review Coastal Migratory Pelagics (CMP) Landings, Public Hearing Draft Amendment 32: Modifications to the Gulf of Mexico Migratory Group Cobia Catch Limits, Possession Limits, Size Limits and Framework Procedure, receive clarification on Gulf King Mackerel Commercial Historical Landings Data and SSC recommendations, and review Draft Amendment 33: Modifications to the Gulf of Mexico Migratory Group King Mackerel Catch Limits and Sector Allocations and CMP Advisory Panel recommendations.

The Sustainable Fisheries Committee will receive an update on Historical Captain Permits Conversion; review National Standard 1 (NS1) Technical Guidance Subgroup 3 Technical Memo—Managing with Annual Catch Limits (ACLs) for Data-limited Stocks in Federal Fishery Management Plans and Using Field Experiments to Assess Alternative Mechanisms for Distributing Fish to the Recreational Sector, and SSC Recommendations.

The public meeting will adjourn for the day at approximately 4:15 p.m. and the Council will move in to a Full Council—Closed Session for the remainder of the day for the Selection of Special Coral, Mackerel and Shrimp Scientific and Statistical Committee (SSC) Members.

Tuesday, August 24, 2021; 8:30 a.m.-5:30 p.m.

The Reef Fish Committee will convene to review Reef Fish Landings and Individual Fishing Quota (IFQ) Landings, Draft Framework Action: Modification of Gulf of Mexico Red Grouper Annual Catch Limits and receive a presentation on Greater Amberjack Calibrated Landings and Catch Limits, and Proposed Management Alternatives. The Committee will review and discuss Implementation of the DESCEND Act of 2020, Updates on 2021 Red Snapper State Management Programs, Final Document—Framework Action: Gulf of Mexico Red Snapper Recreational Data Calibration and Recreational Catch Limits, Reef Fish Amendments 36B and 36C: Modifications to Individual Fishing Quota (IFQ) Programs, and Draft Snapper Grouper Amendment 44 and Reef Fish Amendment 55: Modifications to Southeastern U.S. Yellowtail Snapper Jurisdictional Allocations, Catch Limits, and South Atlantic Sector Annual Catch Limits. The Committee will receive a presentation on Sector Separation for Four Reef Fish Species.

Immediately following the Reef Fish Committee Virtual and In-person Gulf of Mexico Fishery Management Council and National Oceanic and Atmospheric Administration (NOAA) will hold an informal Question and Answer Session.

Wednesday, August 25, 2021; 8:30 a.m.-5:30 p.m.

The Data Collection Committee will receive an update on Southeast For-hire Electronic Reporting (SEFHIER) Program and a presentation on Draft Options for Electronic Reporting due to Equipment Failure.

The Habitat Protection and Restoration Committee will receive a presentation from Bureau of Ocean Energy Management (BOEM) on Renewable Wind Energy and review Draft: Generic Essential Fish Habitat Amendment and SSC recommendations.

The Law Enforcement Committee will review the meeting summary from the March 2021 meeting and approve the Cooperative Law Enforcement Strategic Plan 2021-24 and Operations Plan 2021-22.

Following lunch, at approximately 1:30 p.m., the Council will reconvene with a Call to Order, Announcements and Introductions, presentation of the 2020 Law Enforcement Team of the Year Award, Adoption of Agenda and Approval of Minutes. The Council will receive presentations on Movement Patterns and Discard Mortality of Cobia in the Gulf of Mexico (GOM) and Assessing the Influence of Sargassum Habitat on Greater Amberjack Recruitment in the GOM.

The Council will hold public testimony from 2:45 p.m. to 5:30 p.m., EDT for Potential Reconsideration of Final Document—Framework Action: Gulf of Mexico Red Snapper Recreational Data Calibration and Recreational Catch Limits, and open testimony on other fishery issues or concerns. Public comment may begin earlier than 2:45 p.m. EDT, but will not conclude before that time. Persons wishing to give public testimony in-person must register at the registration kiosk in the meeting room.

Thursday, August 26, 2021; 8:30 a.m.-5 p.m.

The Council will receive committee reports from Administrative/Budget, Shrimp, Mackerel, Habitat Protection and Restoration, Sustainable Fisheries, Data Collection, Law Enforcement, and Reef Fish Management Committees, and report on the Closed Session. The Council will receive updates from the following supporting agencies: South Atlantic Fishery Management Council; Texas Law Enforcement Efforts; NOAA Office of Law Enforcement (OLE); Gulf States Marine Fisheries Commission; U.S. Coast Guard; U.S. Fish and Wildlife Service; and Department of State.

The Council will discuss any Other Business items; and, hold an Election for Chair and Vice-Chair.

—Meeting Adjourns

The meeting will be an in-person meeting only. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: July 28, 2021.
Tracey L. Thompson,
Acting Deputy Director, Office of Sustainable Fisheries, National Marine Fisheries Service.

[FR Doc. 2021-16465 Filed 8-2-21; 8:45 am]

BILLING CODE 3510-22-P